DEPARTMENT OF TRANSPORTATION

Federal Aviation Administration

14 CFR Part 39

[Docket No. 2001-NM-380-AD; Amendment 39-13537; AD 2004-06-11]

RIN 2120-AA64

Airworthiness Directives; Airbus Model A330-301, -321, -322, -341, and -342 Series Airplanes; and Model A340-211, -212, 213, -311, -312, and -313 Series Airplanes

AGENCY: Federal Aviation Administration, DOT.

ACTION: Final rule.

SUMMARY: This amendment adopts a new airworthiness directive (AD), applicable to certain Airbus Model A330-301, -321, -322, -341, and -342 series airplanes; and certain Model A340 series airplanes, that requires inspecting for and repairing cracking of the wire harness slots in the inner rear spars of the wings between ribs 4 and 5, and cold-expanding crack-free wire harness slots and bolt holes. This action is necessary to prevent cracking of the wire harness slot, which could result in reduced structural integrity of the wing. This action is intended to address the identified unsafe condition.

DATES: Effective April 30, 2004.

The incorporation by reference of certain publications listed in the regulations is approved by the Director of the Federal Register as of April 30, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A330-301, -321, -322, -341, and -342 series airplanes; and certain Model A340 series airplanes was published in the Federal Register on November 28, 2003 (68 FR 66762). That action proposed to require inspecting for and repairing cracks of the wire harness slots in the inner rear spars of the wings between ribs 4 and 5, and cold-expanding crack-free wire harness slots and bolt holes.

Comments

Interested persons have been afforded an opportunity to participate in the making of this amendment. Due consideration has been given to the comment received.

Request To Revise Applicability

The commenter requests that the applicability of the proposed AD be revised to match the applicability of the French airworthiness directive, which limits Model A340 series airplanes to A340-211, -212, 213, -311, -312, and -313. The commenter states that the proposed (FAA) AD, as written, would include Model A340-500 and -600 series airplanes, which do not need the compliance check.

We agree, for the reasons provided by the commenter. We have revised the applicability accordingly in this final rule.

Conclusion

After careful review of the available data, including the comment noted above, the FAA has determined that air safety and the public interest require the adoption of the rule with the changes described previously. The FAA has determined that these changes will neither increase the economic burden on any operator nor increase the scope of the AD.

Cost Impact

This AD will affect about 1 Model A330 series airplane of U.S. registry. Currently, there are no affected Model A330-341 or A340 series airplanes on the U.S. Register. The actions will take about 30 work hours per airplane, at an average labor rate of $65 per work hour. Required parts will cost about $1,075 per airplane. Based on these figures, the cost impact of this AD is estimated to be $3,025 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-06-11 Airbus: Amendment 39-13537. Docket 2001-NM-380-AD.

Applicability: The airplanes listed in Table 1 of this AD, certificated in any category.

Table 1.—Applicability
Model— | Except those modified by Airbus modification— | Or Airbus service bulletin—
A330-301, -321, -322, -341, and -342 series airplanes | 43503 | A330-57-3055, dated November 28, 2001, or Revision 01, dated May 2, 2002.
A340-211, -212, 213, -311, -312, and -313 series airplanes | 43692 | A340-57-4062, dated November 28, 2001, or Revision 01, dated May 2, 2002.

Compliance: Required as indicated, unless accomplished previously.

To prevent cracking of the wire harness slot on the inner rear spar of the wing, which could result in reduced structural integrity of the wing, accomplish the following:

Modification

(a) At the time specified in paragraph (a)(1), (a)(2), or (a)(3) of this AD: Modify the inner rear spars of the wings in accordance with the Accomplishment Instructions of Airbus Service Bulletin A330-57-3055 or A340-57-4062, both Revision 01, both dated May 2, 2002, as applicable. The modification involves an eddy current surface crack inspection of the wire harness slots in the rear spars of the wings between ribs 4 and 5, a high-frequency eddy current rototest inspection for cracks in the area around the bolt holes that attach the support plates of the electrical connectors, and cold-expansion of the wire harness slots and the bolt holes.

(1) For Model A330 series airplanes: Inspect before the accumulation of 16,500 total flight cycles or 51,400 total flight hours, whichever occurs first.

(2) For Model A340 series airplanes, pre-Modification 41300: Inspect before the accumulation of 14,500 total flight cycles or 75,400 total flight hours, whichever occurs first.

(3) For Model A340 series airplanes, post-Modification 41300: Inspect before the accumulation of 13,400 total flight cycles or 70,000 total flight hours, whichever occurs first.

(b) A modification done before the effective date of this AD in accordance with Airbus Service Bulletin A330-57-3055 or A340-57-4062, both dated November 28, 2001, is acceptable for compliance with the applicable requirements of this AD.

Repair

(c) If any crack is found during an inspection required by paragraph (a) of this AD: Before further flight, repair in accordance with a method approved by either the Manager, International Branch, ANM-116, Transport Airplane Directorate, FAA; or the Direction Générale de l'Aviation Civile (or its delegated agent).

Alternative Methods of Compliance

(d) In accordance with 14 CFR 39.19, the Manager, International Branch, ANM-116, is authorized to approve alternative methods of compliance for this AD.

Incorporation by Reference

(e) Unless otherwise specified in this AD, the actions must be done in accordance with Airbus Service Bulletin A330-57-3055, Revision 01, dated May 2, 2002; or Airbus Service Bulletin A340-57-4062, Revision 01, dated May 2, 2002; as applicable. This incorporation by reference was approved by the Director of the Federal Register in accordance with 5 U.S.C. 552(a) and 1 CFR part 51. Copies may be obtained from Airbus, 1 Rond Point Maurice Bellonte, 31701 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directives 2001-578(B) and 2001-579(B), both dated November 28, 2001.

Effective Date

(f) This amendment becomes effective on April 30, 2004.

Issued in Renton, Washington, on March 17, 2004.
Kevin M. Mullin,
Acting Manager, Transport Airplane Directorate, Aircraft Certification Service.

[FR Doc. 04-6578 Filed 3-25-04; 8:45 am]

BILLING CODE 4910-13-P